FEDERAL COMMUNICATIONS COMMISSION

[DA 06-1998]

Announcement of Consumer Advisory Committee Meeting Date and Agenda

AGENCY: Federal Communications Commission.

ACTION: Notice; announcement of meeting.

SUMMARY: This document announces the next meeting date and agenda of the Consumer Advisory Committee (“Committee”). The purpose of the Committee is to make recommendations to the Federal Communications Commission (“Commission”) regarding consumer issues within the jurisdiction of the Commission and to facilitate the participation of all consumers in proceedings before the Commission.

DATES: The next meeting of the Consumer Advisory Committee will take place on Friday, November 3, 2006 from 9 a.m to 4 p.m.

ADDRESSES: Federal Communications Commission, 445 12th Street, SW., Washington DC, 20554.

FOR FURTHER INFORMATION CONTACT: Scott Marshall, (202) 418-2809 (voice), (202) 418-0179 (TTY) or e-mail: scott.marshall@fcc.gov.

SUPPLEMENTARY INFORMATION: This is a summary of the Commission's Public Notice, DA 06-1998, released on October 12, 2006, announcing the next meeting date and meeting agenda of its Consumer Advisory Committee. The purpose of the Committee is to make recommendations to the Commission regarding consumer issues within the jurisdiction of the Commission and to facilitate the participation of all consumers in proceedings before the Commission.

At its November 3, 2006 meeting, the Committee will receive a briefing by Commission staff regarding the agency's activities. In addition, the Committee will receive reports from the Commission's TRS, Disability, Rural, Media, and Recommendation Follow-Up working groups. The full Consumer Advisory Committee may take action on any and/or all of these agenda items. Meeting minutes will be available for public inspection at the Commission's headquarters building located at Portals II, 445 12th Street, SW., Washington DC, 20554. The Committee meeting will be open to the public and interested persons may attend the meeting and communicate their views. Members of the public will have an opportunity to address the Committee on issues of interest to both them and the Committee. The meeting site is fully accessible to people using wheelchairs or other mobility aids. Meeting agendas and handouts will be provided in accessible formats; sign language interpreters, open captioning, and assistive listening devices will be provided on site. The meeting will also be webcast with open captioning at http://www.fcc.gov/cgb/cac.

A copy of the October 12, 2006 Public Notice is available in alternate formats (Braille, cassette tape, large print or diskette) upon request. It is also posted on the Commission's Web site at http://www.fcc.gov/cgb/cac. If the Public has any written comments for the Committee, please submit them to the Committee's Designated Federal Officer, Scott Marshall, Federal Communications Commission, Room 5-A824, 445 12th Street, SW., Washington, DC 20554. Contact the Commission to request other reasonable accommodations for people with disabilities as early as possible; allowing at least 14 days advance notice of the request. Please include a detailed description of any accommodations you seek and a way in which you can be contacted in case further information is needed by sending an e-mail to: fcc504@fcc.gov or call the Consumer & Governmental Affairs Bureau at (202) 418-0530 (voice), (202) 418-0432 (TTY).

Federal Communications Commission.
Mary Beth Richards,
Deputy Bureau Chief/Chief of Staff Consumer & Governmental Affairs Bureau.

[FR Doc. E6-17351 Filed 10-17-06; 8:45 am]

BILLING CODE 6712-01-P